Proclamation 8125 of April 11, 2007

National Volunteer Week, 2007

By the President of the United States of America

A Proclamation

During National Volunteer Week, we celebrate the spirit of service in America and honor those who demonstrate the great character of our country through acts of kindness, generosity, and compassion.

Throughout the history of America, volunteers and civic organizations have helped extend the blessings of liberty and opportunity to our citizens. People across our Nation answer the universal call to love their neighbor by giving their time, talents, and energy to comfort those in despair, support others in need, and change lives for the better. The optimism and determination of our country's volunteers reflect the true spirit and strength of our Nation.

My Administration encourages Americans to seize the opportunity to help someone in need. Individuals can find ways to serve in communities throughout our Nation by visiting the USA Freedom Corps website at volunteer.gov. The USA Freedom Corps works to rally America's armies of compassion and bring together individuals and faith-based and community organizations committed to volunteer service. These efforts are helping to build a culture of service, citizenship, and responsibility across our country.

America's volunteers demonstrate that the strength of our Nation lies in the hearts and souls of our citizens. During National Volunteer Week, we recognize all those who have touched the lives of others with their kindness and who have made our country a better place by helping their fellow Americans.

NOW, THEREFORE, I, GEORGE W. BUSH, President of the United States of America, by virtue of the authority vested in me by the Constitution and laws of the United States, do hereby proclaim April 15 through April 21, 2007, as National Volunteer Week. I call upon all Americans to recognize and celebrate the important work that volunteers do every day throughout our country. I also encourage citizens to explore ways to help their neighbors in need and serve a cause greater than themselves.

IN WITNESS WHEREOF, I have hereunto set my hand this eleventh day of April, in the year of our Lord two thousand seven, and of the Independence of the United States of America the two hundred and thirty-first.

[FR Doc. 07-1912

Filed 4-13-07; 11:50 am]

Billing code 3195-01-P